DEPARTMENT OF THE INTERIOR

National Park Service

[N6337; NPS-WASO-NAGPRA-NPS0040526; PPWOCRADN0-PCU00RP14.R50000]

Notice of Inventory Completion: Kansas State Historical Society, Topeka, KS

AGENCY: National Park Service, Interior.

ACTION: Notice.

SUMMARY: In accordance with the Native American Graves Protection and Repatriation Act (NAGPRA), the Kansas State Historical Society (KSHS) has completed an inventory of human remains and associated funerary objects and has determined that there is a cultural affiliation between the human remains and associated funerary objects and Indian Tribes or Native Hawaiian organizations in this notice.

DATES: Repatriation of the human remains and associated funerary objects in this notice may occur on or after August 18, 2025.

ADDRESSES: Send written requests for repatriation of the human remains and associated funerary objects in this notice to Dr. Nicole Klarmann, Kansas State Historical Society, 6425 SW 6th Avenue, Topeka, KS 66615-1099, email kshs.nagpra@ks.gov.

SUPPLEMENTARY INFORMATION: This notice is published as part of the National Park Service's administrative responsibilities under NAGPRA. The determinations in this notice are the sole responsibility of the KSHS, and additional information on the determinations in this notice, including the results of consultation, can be found in its inventory or related records. The National Park Service is not responsible for the determinations in this notice.

Abstract of Information Available

Human remains representing, at least, one individual have been identified from site 14SC301 in Scott County, KS (UBS 1990-05). No associated funerary objects are present. These human remains are believed to be from a Cuartelejo Apache individual and were excavated from Scott State Park in 1951.

Human remains representing, at least, one individual have been identified from site 14SC405 in Scott County, KS (UBS 1991-69). The five associated funerary objects include a bone bead, chipped stone bifaces, a turtle shell, and a mollusk shell. This site was excavated very near or within Lake Scott State Park by KSHS in 1975.

Human remains representing, at least, one individual have been identified from the El Cuartelejo Pueblo (14SC1) in Scott County, KS (UBS 2010-09). No associated funerary objects are present. This site has been extensively excavated and collected from since the 1890's. A professor at the University of Iowa found a human tooth in the KSHS collections.

Human remains representing, at least, one individual have been identified from site 14SC409 in Scott County, KS (UBS 2014-02). No associated funerary objects are present. Remains from this excavation were left in place, however, this record is for the soil probe testing that was completed.

Human remains representing, at least, one individual have been identified from either Lane or Scott County, KS (UBS 2005-10). No associated funerary objects are present. These remains have limited provenience but were kept by a family for some time and then given to KSHS.

To our knowledge, no known hazardous substances were used to treat any of the human remains or associated funerary objects.

Cultural Affiliation

Based on the information available and the results of consultation, cultural affiliation is reasonably identified by the geographical location or acquisition history of the human remains and associated funerary objects described in this notice.

Determinations

The KSHS has determined that:

• The human remains described in this notice represent the physical remains of five individuals of Native American ancestry.

• The five objects described in this notice are reasonably believed to have been placed intentionally with or near individual human remains at the time of death or later as part of the death rite or ceremony.

• There is a connection between the human remains and associated funerary objects described in this notice and the Jicarilla Apache Nation, New Mexico and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 18, 2025. If competing requests for repatriation are received, the KSHS must determine the most appropriate requestor prior to repatriation. Requests for joint repatriation of the human remains and associated funerary objects are considered a single request and not competing requests. The KSHS is responsible for sending a copy of this notice to the Indian Tribes and Native Hawaiian organizations identified in this notice and any other consulting parties.

Authority: Native American Graves Protection and Repatriation Act, 25 U.S.C. 3003, and the implementing regulations, 43 CFR 10.10.

Dated: July 1, 2025.
Melanie O'Brien,
Manager, National NAGPRA Program.

[FR Doc. 2025-13383 Filed 7-16-25; 8:45 am]

BILLING CODE 4312-52-P